FEDERAL COMMUNICATIONS COMMISSION

[Report No. 2652]

Petitions for Reconsideration and Clarification of Action in Docketed Proceedings

March 29, 2004.

Petitions for Reconsideration and Clarification have been filed in the Commission's license transfer proceedings listed in this Public Notice. The full text of this document is available for viewing and copying in Room CY-A257, 445 12th Street, SW., Washington, DC or may be purchased from the Commission's copy contractor, Qualex International (202) 863-2893. Oppositions to these petitions must be filed by April 27, 2004. See § 1.4(b)(1) of the Commission's rules (47 CFR 1.4(b)(1)). Replies to an opposition must be filed within 10 days after the time for filing oppositions have expired.

Subject: In the Matter of Revision of the Commission's Rules to Ensure Compatibility With Enhanced 911 Emergency Calling Systems (CC Docket No. 94-102).

Number of Petitions Filed: 1.

Subject: In the Matter of Service Rules for Advanced Wireless Services in the 1.7 GHz and 2.1 GHz Bands (WT Docket No. 02-353).

Number of Petitions Filed: 5.

Marlene H. Dortch,
Secretary.

[FR Doc. 04-8241 Filed 4-9-04; 8:45 am]

BILLING CODE 6712-01-M